DEPARTMENT OF HOMELAND SECURITY

Coast Guard

33 CFR Part 117

[Docket No. USCG-2012-0012]

RIN 1625-AA09

Drawbridge Operation Regulation; Curtis Creek, Baltimore, MD

AGENCY: Coast Guard, DHS.

ACTION: Notice of temporary deviation from regulations.

SUMMARY: The Coast Guard has issued a temporary deviation from the operating schedule that governs the I-695 Bridge, across Curtis Creek, mile 1.0, at Baltimore, MD. This deviation allows the bridge to operate on a restricted schedule including six (6) multi-day closures to complete structural repairs.

DATES: This deviation is effective from 6 a.m. on March 1, 2012, to 11:59 p.m. on July 17, 2012. The deviation has been enforced with actual notice since February 10, 2012.

ADDRESSES: Documents mentioned in this preamble as being available in the docket are part of docket USCG-2012-0012 and are available online by going to www.regulations.gov, inserting USCG-2012-0012 in the “Keyword” box, and clicking “Search.” This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call Bill H. Brazier, Bridge Management Specialist, Fifth Coast Guard District; telephone 757-398-6422, email Bill.H.Brazier@uscg.mil. If you have questions on viewing the docket, call Renee V. Wright, Program Manager, Docket Operations, telephone 202-366-9826.

SUPPLEMENTARY INFORMATION: The Maryland Transportation Authority, who owns and operates this double-leaf bascule drawbridge, has requested a temporary deviation from the current operating schedule set out in 33 CFR 117.557 which requires the bridge to open on signal if at least a one-hour advance notice is given to the Maryland Transit Authority in Baltimore.

The I-695 Bridge has a vertical clearance in the closed position of 58 feet, above mean high water.

Under this temporary deviation to facilitate the replacement of the grid deck, floor beams and stringers, the drawbridge will be closed for six (6) multi-day periods from 7 a.m. on February 10, 2012, through 7 a.m. May 17, 2012, as is more specifically set out below. During these closure periods no vessel openings will be provided. At all others times, vessel openings will be provided on signal if at least 24 hours advance notice is given.

This temporary deviation will not significantly disrupt vessel traffic because mariners can plan their trips to pass through the bridge between the closure periods when the bridge will be fully operational and vessels that can pass under the bridge without a bridge opening may do so at all times. There is no alternate route for vessels and the bridge will not be able to open in the event of an emergency during the stated closure periods.

In accordance with 33 CFR 117.35(e), the drawbridge must return to its regular operating schedule immediately at the end of the designated time period. This deviation from the operating regulations is authorized under 33 CFR 117.35.

During this deviation, the bridge will operate as follows:

(1) From 6 a.m. on February 10 through 11:59 p.m. on July 17, 2012, will open on signal if at least 24 hours advance notice is given, except

(2) The bridge need not open during the following specified closure periods:

(i) From 7 a.m. on February 10, 2012 until 7 a.m. on February 15, 2012;

(ii) From 7 a.m. on February 18, 2012 until 7 a.m. on February 24, 2012;

(iii) From 7 a.m. on February 28, 2012 until 7 a.m. on March 10, 2012;

(iv) From 7 a.m. on April 12 until 7 a.m. on April 19, 2012;

(v) From 7 a.m. on April 28, 2012 until 7 a.m. on May 4, 2012; and

(vi) From 7 a.m. on May 7, 2012 until 7 a.m. on May 17, 2012.

Dated: January 30, 2012.
William D. Lee,
Rear Admiral, U.S. Coast Guard, Commander, Fifth Coast Guard District.

[FR Doc. 2012-4929 Filed 2-29-12; 8:45 am]

BILLING CODE 9110-04-P